SECURITIES AND EXCHANGE COMMISSION

[File No. 500-1]

Order of Suspension of Trading; In the Matter of Advanced Refractive Technologies, Inc., Bluebook International Holding Co. (The), CBCom, Inc., Gener8xion Entertainment, Inc., Group Long Distance Inc., HiEnergy Technologies, Inc., and Holter Technologies Holding, A.G. (n/k/a International Consortium Corp.)

It appears to the Securities and Exchange Commission that there is a lack of current and accurate information concerning the securities of Advanced Refractive Technologies, Inc. because it has not filed any periodic reports since the period ended September 30, 2006.

It appears to the Securities and Exchange Commission that there is a lack of current and accurate information concerning the securities of Bluebook International Holding Co. (The) because it has not filed any periodic reports since the period ended December 31, 2005.

It appears to the Securities and Exchange Commission that there is a lack of current and accurate information concerning the securities of CBCom, Inc. because it has not filed any periodic reports since the period ended September 30, 2002.

It appears to the Securities and Exchange Commission that there is a lack of current and accurate information concerning the securities of Gener8xion Entertainment, Inc. because it has not filed any periodic reports since the period ended April 30, 2008.

It appears to the Securities and Exchange Commission that there is a lack of current and accurate information concerning the securities of Group Long Distance Inc. because it has not filed any periodic reports since the period ended July 31, 2001.

It appears to the Securities and Exchange Commission that there is a lack of current and accurate information concerning the securities of HiEnergy Technologies, Inc. because it has not filed any periodic reports since the period ended October 31, 2006.

It appears to the Securities and Exchange Commission that there is a lack of current and accurate information concerning the securities of Holter Technologies Holding, A.G. (n/k/a International Consortium Corp.) because it has not filed any periodic reports since the period ended September 30, 2000.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on May 3, 2011, through 11:59 p.m. EDT on May 16, 2011.

By the Commission.
Jill M. Peterson,
Assistant Secretary.

[FR Doc. 2011-11090 Filed 5-3-11; 4:15 pm]

BILLING CODE 8011-01-P